SOCIAL SECURITY ADMINISTRATION

Agency Information Collection Activities: Proposed Request

The Social Security Administration (SSA) publishes a list of information collection packages that will require clearance by the Office of Management and Budget (OMB) in compliance with Public Law 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the SSA Reports Clearance Officer at the following addresses: (SSA), Social Security Administration, DCFAM, Attn: SSA Reports Clearance Officer, 1-A-21 Operations Bldg., 6401 Security Blvd., Baltimore, MD 21235.

The information collection listed below will be submitted to OMB within 60 days from the date of this notice. Therefore, your comments should be submitted to SSA within 60 days from the date of this publication. You can obtain a copy of the collection instrument by calling the SSA Reports Clearance Officer at 410-965-0454, or by writing to her at the address listed above.

Social Security Number Verification Service (SSNVS)—0960-New.

Background

Under IRS regulation, employers are obligated to provide wage and tax data to the Social Security Administration (SSA) using form W-2, Wage and Tax Statement or its electronic equivalent. As part of this process, the employer must furnish the employee's name and their Social Security Number (SSN). This information must match SSA's records in order for the employee's wage and tax data to be properly posted to their Earnings Record. Information that is incorrectly provided to the agency must be corrected by the employer using an amended reporting form, which is a labor-intensive and time-consuming process for both SSA and the employer. Therefore, to help ensure that employers provide accurate name and SSN information, SSA plans to offer a free and secure Internet service for employers, SSNVS, that will allow them to perform advance verification of their employees' name and SSN information against SSA records.

SSNVS Collection

SSA will use the information collected through the SSNVS to verify that employee name and SSN information, provided by employers, matches SSA records. SSA will respond to the employer informing them only of matches and mismatches of submitted information. SSA plans to conduct a pilot with a limited number of test employers followed by national implementation. Respondents are employers who provide wage and tax data to SSA and have elected to participate in the pilot and the future national service.

Pilot Burden Hours Estimate

Number of Respondents: 100.

Frequency of Response: 10.

Average Burden Per Response: 5 minutes.

Estimated Annual Burden: 83 hours.

National Implementation Burden Hours Estimate

Number of Respondents: 1,000,000.

Frequency of Response: 10.

Average Burden Per Response: 5 minutes.

Estimated Annual Burden: 833,333 hours.

Please note: SSA estimates that each respondent will access the SSNVS an average of 10 times annually.

Dated: April 22, 2002.
Elizabeth A. Davidson,
Reports Clearance Officer, Social Security Administration.

[FR Doc. 02-10229 Filed 4-24-02; 8:45 am]

BILLING CODE 4191-02-P